NUCLEAR REGULATORY COMMISSION

[NRC-2023-0215]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by January 25, 2024. A request for a hearing or petitions for leave to intervene must be filed by February 26, 2024. This monthly notice includes all amendments issued, or proposed to be issued, from November 9, 2023, to December 7, 2023. The last monthly notice was published on November 28, 2023.

ADDRESSES: You may submit comments by any of the following methods; however, the NRC encourages electronic comment submission through the Federal rulemaking website:

• Federal rulemaking website: Go to https://www.regulations.gov and search for Docket ID NRC-2023-0215. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001, telephone: 301-415-1365; email: Susan.Lent@nrc.gov.

SUPPLEMENTARY INFORMATION:

I. Obtaining Information and Submitting Comments

A. Obtaining Information

Please refer to Docket ID NRC-2023-0215, facility name, unit number(s), docket number(s), application date, and subject when contacting the NRC about the availability of information for this action. You may obtain publicly available information related to this action by any of the following methods:

• Federal Rulemaking Website: Go to https://www.regulations.gov and search for Docket ID NRC-2023-0215.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0215, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Entergy Operations, Inc.; Waterford Steam Electric Station, Unit 3; St. Charles Parish, LA
Docket No(s) | 50-382.
Application date | July 26, 2023.
ADAMS Accession No | ML23207A049.
Location in Application of NSHC | Pages 10-11 of the Enclosure.
Brief Description of Amendment(s) | The proposed amendment would modify Surveillance Requirement (SR) 4.3.1.3, listed in Technical Specification (TS) 3.3.1, “Reactor Protective Instrumentation,” and SR 4.3.2.3, listed in TS 3.3.2, “Engineered Safety Features Actuation System Instrumentation,” to remove conflicting language that should have been removed as part of the Waterford Steam Electric Station, Unit 3 license amendment request to adopt Technical Specifications Task Force (TSTF) Traveler TSTF-425 (ADAMS Package Accession No. ML15170A121), which relocated specific surveillance frequencies to the Surveillance Frequency Control Program (a licensee controlled program).
Proposed Determination | NSHC.
Name of Attorney for Licensee, Mailing Address | Anna Vinson Jones, Assistant General Counsel/Legal Department, Entergy Operations, Inc., 101 Constitution Avenue NW, Washington, DC 20001.
NRC Project Manager, Telephone Number | Jason Drake, 301-415-8378.
Nebraska Public Power District; Cooper Nuclear Station; Nemaha County, NE
Docket No(s) | 50-298.
Application date | November 15, 2023.
ADAMS Accession No | ML23319A419.
Location in Application of NSHC | Page 3 of Attachment 1 incorporates by reference the NSHC published in the Federal Register on February 22, 2006 (71 FR 9179) and a notice of availability was published on April 21, 2006 (71 FR 20735).
Brief Description of Amendment(s) | The proposed amendment would modify technical specifications (TSs) by relocating reference to specific American Society for Testing Materials (ASTM) standards for fuel oil testing to licensee-controlled documents. The change is consistent with NRC-approved Technical Specification Task Force (TSTF) TSTF-374, Revision 0, “Revision to TS 5.5.13 and Associated TS Bases for Diesel Fuel Oil,” and is part of the Consolidated Line Item Improvement Process.
Proposed Determination | NSHC.
Name of Attorney for Licensee, Mailing Address | John C. McClure, Vice President, Governmental Affairs & General Counsel Nebraska Public Power District, P.O. Box 499, Columbus, NE 68601.
NRC Project Manager, Telephone Number | Thomas Byrd, 301-415-3719.
Nine Mile Point Nuclear Station, LLC and Constellation Energy Generation, LLC; Nine Mile Point Nuclear Station, Unit 1; Oswego County, NY
Docket No(s) | 50-220.
Application date | October 18, 2023.
ADAMS Accession No | ML23291A246.
Location in Application of NSHC | Pages 2-4 of Attachment 1.
Brief Description of Amendment(s) | The proposed amendment would modify the Nine Mile Point, Unit 1 (NMP1), technical specifications by relocating Surveillance Requirement 4.3.6.a to the licensee-controlled Surveillance Frequency Control Program (SFCP). The SFCP was previously implemented at NMP1 by License Amendment No. 222 (ADAMS Accession No. ML16081A256) dated May 31, 2016. Surveillance Requirement 4.3.6.a was within the scope of License Amendment No. 222; however, it was not fully revised in the adoption of Technical Specification Task Force Traveler 425, Revision 3, to meet the SFCP in accordance with Nuclear Energy Institute 04-10, “Risk-Informed Technical Specifications Initiative 5b, and Risk-Informed Method for Control of Surveillance Frequencies” (ADAMS Accession No. ML071360456).
Proposed Determination | NSHC.
Name of Attorney for Licensee, Mailing Address | Jason Zorn, Associate General Counsel, Constellation Energy Generation, 101 Constitution Ave. NW, Suite 400 East, Washington, DC 20001.
NRC Project Manager, Telephone Number | Richard Guzman, 301-415-1030.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Clinton Power Station, Unit No. 1; DeWitt County, IL
Docket No(s) | 50-461.
Amendment Date | November 22, 2023.
ADAMS Accession No | ML23284A251.
Amendment No(s) | 250.
Brief Description of Amendment(s) | The amendment adopts Technical Specifications Task Force (TSTF) Traveler TSTF-332-A, Revision 1, “ECCS [emergency core cooling system] Response Time Testing.” TSTF-332 revises technical specification definitions for ECCS response time, isolation system response time, and reactor protection system response time that are referenced in surveillance requirements.
Public Comments Received as to Proposed NSHC (Yes/No) | No.
Constellation Energy Generation, LLC; LaSalle County Station, Units 1 and 2; LaSalle County, IL
Docket No(s) | 50-373, 50-374.
Amendment Date | November 8, 2023.
ADAMS Accession No | ML23286A260.
Amendment No(s) | 260 (Unit 1), 245 (Unit 2).
Brief Description of Amendment(s) | The amendments replaced the existing reactor vessel heatup and cooldown rate limits and the pressure and temperature limit curves with references to the Pressure and Temperature Limits Report.
Public Comments Received as to Proposed NSHC (Yes/No) | No.
Constellation Energy Generation, LLC; Zion Nuclear Power Station, Units 1 and 2; Lake County, IL
Docket No(s) | 50-295, 50-304, 72-1037.
Amendment Date | November 16, 2023.
ADAMS Accession No | ML23291A080.
Amendment No(s) | 192 (Unit 1), 179 (Unit 2).
Brief Description of Amendment(s) | These conforming amendments reflect the two previously approved indirect transfers of the Zion Nuclear Power Station, Units 1 and 2 (Zion) licenses from Exelon Generation Company (EGC) to Constellation Energy Generation, LLC (CEG), as well as the direct transfer of the Zion licenses and conforming amendments, from ZionSolutions, LLC (ZS) to CEG. The approved conforming amendments were changed by replacing EGC with CEG, as the licensee, now that ZS has completed its decommissioning of the Zion site outside the boundaries of the on-site Independent Spent Fuel Storage Installation (ISFSI) and the actions described in the Zion License Termination Plan have been completed. The completion of the Zion decommissioning outside the boundary of the on-site ISFSI and the name change of the licensee from ECG to CEG was evaluated in the NRC safety evaluations (ML19228A131, ML21277A248, ML22076A012, and ML23286A306) supporting termination of the Zion licenses outside the boundary of the on-site ISFSI.
Public Comments Received as to Proposed NSHC (Yes/No) | No.
Energy Harbor Nuclear Corp. and Energy Harbor Nuclear Generation LLC; Perry Nuclear Power Plant, Unit 1; Lake County, OH
Docket No(s) | 50-440.
Amendment Date | November 17, 2023.
ADAMS Accession No | ML23292A297.
Amendment No(s) | 201.
Brief Description of Amendment(s) | The amendment removed the Table of Contents from the Perry Nuclear Power Plant, Unit 1, technical specifications and placed it under licensee control.
Public Comments Received as to Proposed NSHC (Yes/No) | No.
Entergy Operations, Inc.; Arkansas Nuclear One, Unit 1; Pope County, AR
Docket No(s) | 50-313.
Amendment Date | November 28, 2023.
ADAMS Accession No | ML23275A207.
Amendment No(s) | 280.
Brief Description of Amendment(s) | The amendment removed Condition A, “One RCP [reactor coolant pump] not in operation in each loop”; Required Action A.1 to “Restore one non-operating RCP to operation”; and its Completion Time of “18 hours” from Arkansas Nuclear One, Unit 1 Technical Specification 3.4.4 “RCS [Reactor Coolant System] Loops—MODES 1 and 2.”
Public Comments Received as to Proposed NSHC (Yes/No) | No.
Nine Mile Point Nuclear Station, LLC and Constellation Energy Generation, LLC; Nine Mile Point Nuclear Station, Unit 1; Oswego County, NY
Docket No(s) | 50-220.
Amendment Date | December 6, 2023.
ADAMS Accession No | ML23289A012.
Amendment No(s) | 250.
Brief Description of Amendment(s) | The amendment revised the technical specification requirements to permit the use of risk informed completion times for actions to be taken when limiting conditions for operation are not met. The changes are based on Technical Specifications Task Force (TSTF) Traveler TSTF-505, Revision 2, “Provide Risk-Informed Extended Completion Times—RITSTF [Risk-Informed TSTF] Initiative 4b.”
Public Comments Received as to Proposed NSHC (Yes/No) | No.
Southern Nuclear Operating Company, Inc.; Joseph M. Farley Nuclear Plant, Units 1 and 2; Houston County, AL
Docket No(s) | 50-348, 50-364.
Amendment Date | November 22, 2023.
ADAMS Accession No | ML23228A143.
Amendment No(s) | 249 (Unit 1), 246 (Unit 2).
Brief Description of Amendment(s) | The amendments revised the Technical Specifications 3.6.3, “Containment Isolation Valves,” Surveillance Requirement (SR) 3.6.3.5 to eliminate event-based testing of containment purge valves with resilient seals. The amendments eliminated “AND Within 92 days of opening the valve” from SR 3.6.3.5.
Public Comments Received as to Proposed NSHC (Yes/No) | No.
Southern Nuclear Operating Company, Inc.; Vogtle Electric Generating Plant, Unit 3; Burke County, GA
Docket No(s) | 52-025.
Amendment Date | December 7, 2023.
ADAMS Accession No | ML23310A292.
Amendment No(s) | 196.
Brief Description of Amendment(s) | The amendment permitted an exception to Regulatory Guide 1.163 that would allow the specified frequency for the first periodic Type A integrated leak rate test to be performed prior to the earlier of initial Mode 4 entry for Unit 3 Cycle 2 and midnight on May 31, 2025.
Public Comments Received as to Proposed NSHC (Yes/No) | No.
Southern Nuclear Operating Company, Inc.; Vogtle Electric Generating Plant, Units 3 and 4; Burke County, GA
Docket No(s) | 52-025, 52-026.
Amendment Date | October 23, 2023.
ADAMS Accession No | ML23138A085 (Package).
Amendment No(s) | 193 (Unit 3) and 190 (Unit 4).
Brief Description of Amendment(s) | The amendments revised Technical Specification (TS) 3.2.1, “Heat Flux Hot Channel Factor (FQ(Z)),” to adopt (with certain exceptions) the TS changes described in Appendix D of the NRC-approved licensing Topical Report WCAP-17661-P-A, Revision 1, “Improved RAOC and CAOC FQ Surveillance Technical Specifications,” dated February 2019. WCAP-17661-P-A, Revision 1, is applicable to plants using either relaxed axial offset control (RAOC) or constant axial offset control (CAOC) surveillance formulations—the revised Vogtle, Units 3 and 4, TS 3.2.1 uses the CAOC formulation. A reference to WCAP 17661 P A, Revision 1 was also added to TS 5.6.3, “Core Operating Limits Report (COLR).”
Public Comments Received as to Proposed NSHC (Yes/No) | No.
Tennessee Valley Authority; Watts Bar Nuclear Plant, Units 1 and 2; Rhea County, TN
Docket No(s) | 50-390, 50-391.
Amendment Date | December 6, 2023.
ADAMS Accession No | ML23293A057.
Amendment No(s) | 163 (Unit 1), 70 (Unit 2).
Brief Description of Amendment(s) | The amendments revised Watts Bar Nuclear Plant, Units 1 and 2, Technical Specification (TS) 3.8.3, “Diesel Fuel Oil, Lube Oil, and Starting Air,” Surveillance Requirement (SR) 3.8.3.1 (verification of fuel oil storage tank volume), and SR 3.8.3.2 (verification of lubricating oil inventory volume), by removing the current stored diesel fuel oil and lube oil numerical volume requirements and replacing them with duration-based diesel operating time requirements, consistent with TS Task Force (TSTF) Standard TS Traveler TSTF-501, Revision 1, “Relocate Stored Fuel Oil and Lube Oil Volume Values to Licensee Control.” The amendments also revised TS 3.8.1, “AC Sources—Operating,” SR 3.8.1.4 to replace the specific day tank numerical volume requirements with a duration-based diesel operating time requirement.
Public Comments Received as to Proposed NSHC (Yes/No) | No.
Vistra Operations Company LLC; Comanche Peak Nuclear Power Plant, Unit Nos. 1 and 2; Somervell County, TX
Docket No(s) | 50-445, 50-446.
Amendment Date | December 6, 2023.
ADAMS Accession No | ML23313A073.
Amendment No(s) | 184 (Unit 1) and 184 (Unit 2).
Brief Description of Amendment(s) | The amendments revised Technical Specification (TS) 3.2.1, “Heat Flux Hot Channel Factor (FQ(Z)),” and associated references in TS 5.6.5, “Core Operating Limits Report (COLR),” to implement the new FQ(Z) surveillance methodology of WCAP-17661-P-A, Revision 1. The amendments also re-formulated the FQW(Z) approximation for FQ(Z), revised the surveillance requirements, and revised the required actions when FQ(Z) is not within limits.
Public Comments Received as to Proposed NSHC (Yes/No) | No.
Wolf Creek Nuclear Operating Corporation; Wolf Creek Generating Station, Unit 1; Coffey County, KS
Docket No(s) | 50-482.
Amendment Date | November 29, 2023.
ADAMS Accession No | ML23299A266.
Amendment No(s) | 238.
Brief Description of Amendment(s) | The amendment modified the implementation date of License Amendment No. 237 for Wolf Creek Generating Station, Unit 1, which revised License Condition 2.C.(5) regarding fire protection and the Updated Safety Analysis Report to allow the use of hard hat mounted portable lights.
Public Comments Received as to Proposed NSHC (Yes/No) | No.

IV. Notice of Issuance of Amendments to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance(s)—Exigent/Emergency Circumstances
Pacific Gas and Electric Company; Diablo Canyon Power Plant, Unit 2; San Luis Obispo County, CA
Docket No(s) | 50-323.
Amendment Date | December 7, 2023.
ADAMS Accession No | ML23324A153.
Amendment No(s) | 246.
Brief Description of Amendment(s) | The amendment revised Technical Specification 3.7.8, “Auxiliary Saltwater (ASW) System,” Condition A note to allow a one-time Completion Time of 144 hours to replace the ASW Pump 2-2 motor during Cycle 24. The amendment was requested under exigent circumstances pursuant to NRC regulations.
Local Media Notice (Yes/No) | No.
Public Comments Requested as to Proposed NSHC (Yes/No) | No.

V. Previously Published Notice of Consideration of Issuance of Amendments to Facility Operating Licenses and Combined Licenses, Proposed No Significant Hazards Consideration Determination, and Opportunity for a Hearing

The following notice was previously published as separate individual notice. It was published as an individual notice either because time did not allow the Commission to wait for this monthly notice or because the action involved exigent circumstances. It is repeated here because the monthly notice lists all amendments issued or proposed to be issued involving NSHC.

For details, including the applicable notice period, see the individual notice in the Federal Register on the day and page cited.

License Amendment Request(s)—Repeat of Individual Federal Register Notice
Pacific Gas and Electric Company; Diablo Canyon Power Plant, Unit 2; San Luis Obispo County, CA
Docket No(s) | 50-323.
Application Date | November 14, 2023, as supplemented by letter dated November 16, 2023.
ADAMS Accession No(s) | ML23319A204, ML23320A312.
Brief Description of Amendment(s) | The proposed amendment would revise Technical Specification 3.7.8, “Auxiliary Saltwater (ASW) System,” Condition A note to allow a one-time Completion Time of 144 hours to replace the ASW Pump 2-2 motor during Cycle 24. The proposed amendment is being requested under exigent circumstances pursuant to NRC regulations.
Date & Cite of Federal Register Individual Notice | November 22, 2023 (88 FR 81443).
Expiration Dates for Public Comments & Hearing Requests | December 6, 2023 (Public Comments); January 22, 2024 (Hearing Requests).
Union Electric Company; Callaway Plant, Unit No. 1; Callaway County, MO
Docket No(s) | 50-483.
Application Date | December 1, 2022, as supplemented by letter dated October 16, 2023.
ADAMS Accession No(s) | ML22335A507 (Package), ML23289A214 (Package).
Brief Description of Amendment(s) | The proposed amendment would revise the Callaway Plant, Unit No. 1 technical specifications (TSs), licensing basis (i.e., the TS Bases and Final Safety Analysis Report), to allow use of one train of the normal, non-safety-related service water system to solely provide cooling water support (in lieu of support from the associated safety-related essential service water train) for one of two redundant trains of TS-required equipment when both equipment trains are required to be operable during cold shutdown/refueling conditions. The proposed amendment was previously noticed on February 21, 2023 (88 FR 10559) and was renoticed because it was supplemented by letter dated October 16, 2023 (ADAMS Package Accession No. ML23289A214), which changed the scope due to additional TS changes.
Date & Cite of Federal Register Individual Notice | November 13, 2023; 88 FR 77616.
Expiration Dates for Public Comments & Hearing Requests | December 13, 2023 (Public Comments); January 12, 2024 (Hearing Requests).

Dated: December 13, 2023.
For the Nuclear Regulatory Commission.
Victor G. Cusumano,
Acting Deputy Director, Division of Operating Reactor Licensing, Office of Nuclear Reactor Regulation.

[FR Doc. 2023-27832 Filed 12-22-23; 8:45 am]

BILLING CODE 7590-01-P